DEPARTMENT OF ENERGY

Federal Energy Regulatory Commission

[Project No. 2479-011-CA]

Pacific Gas and Electric Company

Notice of Availability of Environmental Assessment

In accordance with the National Environmental Policy Act of 1969 and the Federal Energy Regulatory Commission's (Commission) regulations, 18 CFR part 380 (Order No. 486, 52 FR 47897), the Office of Energy Projects has reviewed the application for a new license for the French Meadows transmission line project and has prepared an Environmental Assessment (EA). The project is located within the Middle Fork American River Drainage in Placer County, California, and occupies 32.78 acres of U.S. Forest Service land managed by the Eldorado and Tahoe National Forests. The combined length of the transmission lines on National Forest land is 6.58 miles, 6.42 miles on the Eldorado National Forest and 0.16 mile on the Tahoe National Forest. Approximately 6.69 miles on the French Meadows transmission line section of the project are located on private land.

The EA contains staff's analysis of the potential environmental effects of the project and alternatives and concludes that licensing the project, with appropriate environmental protective measures, would not constitute a major federal action that would significantly affect the quality of the human environment.

A copy of the EA is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659.

You may also register online at http://www.ferc.gov/docs-filing/esubscription.asp to be notified via email of new filings and issuances related to this or other pending project. For assistance, contact FERC Online Support.

For further information, contact Mary Greene at (202) 502-8865.

Dated: September 28, 2011.
Kimberly D. Bose,
Secretary.

[FR Doc. 2011-25631 Filed 10-4-11; 8:45 am]

BILLING CODE 6717-01-P